ENVIRONMENTAL PROTECTION AGENCY

40 CFR Part 52

[KY-200214; FRL-7138-5]

Approval and Promulgation of Air Quality Implementation Plans; Kentucky; Revisions to the 1-Hour Ozone Maintenance State Implementation Plan for the Paducah Area, Kentucky; Correction

AGENCY: Environmental Protection Agency (EPA).

ACTION: Final rule; correction.

SUMMARY: On August 20, 2001, EPA published a direct final action approving revisions to the 1-hour ozone maintenance state implementation plan (SIP) for Marshall and a portion of Livingston Counties, Kentucky (the Paducah area). Those revisions were incorporated by reference into the Kentucky SIP by adding an entry to the table “EPA-Approved Kentucky Nonregulatory Provisions” contained in the Code of Federal Regulations (CFR). Today's document makes corrections that affect two entries in that table.

EFFECTIVE DATE: This final rule is effective on February 8, 2002.

FOR FURTHER INFORMATION CONTACT: Lynorae Benjamin, Air Quality Modeling and Transportation Planning Section, Air Planning Branch, U.S. Environmental Protection Agency Region 4, 61 Forsyth Street, SW, Atlanta, Georgia 30303-8960, 404/562-9040, (benjamin.lynorae@epa.gov).

SUPPLEMENTARY INFORMATION: On August 20, 2001 (66 FR 43488), EPA published a direct final action approving revisions to the 1-hour ozone maintenance SIP for the Paducah area, Kentucky. Those revisions were incorporated by reference into the Kentucky SIP by adding the entry “Appendix 21” to the table “EPA-Approved Kentucky Nonregulatory Provisions” that is contained in 40 CFR 52.920(e). On October 23, 2001, (66 FR 53662) EPA took final action to approve negative declarations for four control techniques guideline categories for a portion of the Louisville area. These revisions were also incorporated by reference as “Appendix 21” to the above-mentioned table. Thus, two different revisions were mistakenly incorporated by reference as the same entry to this table. In addition, the original Paducah area maintenance plan was approved as “Appendix 14” of this same table. The title/subject of “Appendix 14” was also mistakenly identified as “Maintenance Plan for Pudach Area.” Today's document makes all the necessary corrections to this table by revising the entry “Appendix 14” as follows. The subject/title is corrected to read “Maintenance Plan for the Paducah Area.” The State effective date, EPA approval date, and Federal Register Notice cite are revised to reference the revision to the Paducah area maintenance plan that was approved in the August 20, 2001, direct final action (66 FR 43488). The entry “Appendix 21” will now reference only the negative declarations that were approved in the October 23, 2001, final action (66 FR 53662).

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely corrects an incorrect federal citation for a previous action and imposes no additional requirements beyond those imposed by state law. Accordingly, the Administrator certifies that this rule will not have a significant economic impact on a substantial number of small entities under the Regulatory Flexibility Act (5 U.S.C. 601 et seq.). It does not contain any unfunded mandate or significantly or uniquely affect small governments, as described in the Unfunded Mandates Reform Act of 1995 (Public Law 104-4).

This action also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely corrects a federal citation of a state rule implementing a Federal standard, and does not alter the relationship or the distribution of power and responsibilities established in the Clean Air Act (CAA). This action also is not subject to Executive Order 13045 “Protection of Children from Environmental Health Risks and Safety Risks” (62 FR 19885, April 23, 1997), because it is not economically significant.

In addition, since this action is only correcting a federal citation for a SIP submission that has already been approved by EPA, the requirements of section 12(d) of the National Technology Transfer and Advancement Act of 1995 (15 U.S.C. 272 note) do not apply. This action does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States (U.S.). EPA will submit a report containing this rule and other required information to the U.S. Senate, the U.S. House of Representatives, and the Comptroller General of the U.S. prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by April 9, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Nitrogen dioxide, Ozone, Particulate matter, Reporting and recordkeeping requirements, Volatile Organic Compounds.

Dated: January 24, 2002.
A. Stanley Meiburg,
Acting Regional Administrator, Region 4.

Part 52 of chapter I, title 40, Code of Federal Regulations, is amended as follows:

PART 52—[AMENDED]

1. The authority for citation for part 52 continues to read as follows:

Authority: 42 U.S.C. 7401 et seq.

Subpart S—Kentucky

2. Section 52.920 paragraph (e)(3) is amended by revising the entry for Appendix 14 in the table to read as follows:

§ 52.920 Identification of plan.

* * * * *

(e) * * *

EPA-Approved Kentucky Nonregulatory Provisions
Appendix | Title/subject | State effective date | EPA approval date | Federal Register Notice
* * * * * * *
14 | Maintenance Plan for Paducah Area | 06/14/01 | 08/20/01 | 66 FR 43488
* * * * * * *

* * * * *

[FR Doc. 02-2977 Filed 2-7-02; 8:45 am]

BILLING CODE 6560-50-P